NATIONAL SCIENCE FOUNDATION

Proposal Review Panel for Materials Research; Notice of Meeting

In accordance with the Federal Advisory Committee Act (Pub. L. 92-463, as amended), the National Science Foundation (NSF) announces the following meeting:

NAME AND COMMITTEE CODE: CMMT OpenKIM Virtual Site Visit (1203).

DATE AND TIME: June 28-29, 2021; 10:00 a.m.-6:00 p.m.

PLACE: NSF, 2415 Eisenhower Avenue, Alexandria, VA 22314 | Virtual.

TYPE OF MEETING: Part-Open.

CONTACT PERSON: Dr. Daryl Hess, Program Director, Division of Materials Research, National Science Foundation, 2415 Eisenhower Avenue, Room W 9216, Alexandria, VA 22314; Telephone: (703) 292-4942.

PURPOSE OF MEETING: Virtual site visit to provide an evaluation of the progress of the projects at the host site for the Division of Materials Research at the National Science Foundation.

Agenda

June 28, 2021 (Day 1)

10:00 a.m.-10:30 a.m. Executive: Registration and orientation for Review Committee members (CLOSED)

10:30 a.m.-10:45 a.m. Introductions and Overview—Daryl W. Hess, Program Director, NSF, Division of Materials Research

10:45 a.m.-12:30 p.m. OpenKIM Project Presentations Part I

• OpenKIM Introduction & Overview

• Demonstration

• OpenKIM Progress

• Community Engagement

• Products and Technical

12:30 p.m.-1:00 p.m. Discussion: OpenKIM Team, Review Committee

1:00 p.m.-1:45 p.m. Executive Session: Discussions and Lunch (CLOSED)

1:45 p.m.-2:45 p.m. OpenKIM Project Presentations Part II

• OpenKIM Management

• Education, Outreach, Diversity & Inclusion

• The Road Ahead: Future OpenKIM

2:45 p.m.-3:20 p.m. Discussion: OpenKIM Team, Review Committee

3:20 p.m.-3:30 p.m. Break

3:30 p.m.-4:00 p.m. Meeting with Students and junior collaborators

4:00 p.m.-4:45 p.m. Executive Session: Discussion and Follow-up Questions (CLOSED)

4:45 p.m.-5:00 p.m. Break

5:00 p.m.-6:00 p.m. Meeting with OpenKIM Director and Team: Present Questions

June 29, 2021 (Day 2)

10:00 a.m.-10:15 a.m. Executive Session (CLOSED)

10:15 a.m.-11:15 a.m. Response to Questions: Director and Team

11:15 a.m.-11:45 a.m. Executive Session: Discussions (CLOSED)

11:45 a.m.-11:55 a.m. Break

11:55 a.m.-12:20 p.m. Executive Session: Meeting with University Administrators (CLOSED)

12:20 p.m.-5:00 p.m. NSF + Site Visit Team—Report Writing (CLOSED)

5:00 p.m.—6:00 p.m. Review Committee Chair Debriefing with OpenKIM Director (CLOSED) OpenKIM Team and Review Committee

REASON FOR CLOSING: The work being reviewed during closed portions of the virtual site visit include information of a proprietary or confidential nature, including technical information; financial data, such as salaries and personal information concerning individuals associated with the project. These matters are exempt under 5 U.S.C. 552b(c), (4) and (6) of the Government in the Sunshine Act.

Dated: May 27, 2021.
Crystal Robinson,
Committee Management Officer.

[FR Doc. 2021-11581 Filed 6-1-21; 8:45 am]

BILLING CODE 7555-01-P